DEPARTMENT OF COMMERCE

Submission for OMB Review; Comment Request

The Department of Commerce will submit to the Office of Management and Budget (OMB) for clearance the following proposal for collection of information under the emergency provisions of the Paperwork Reduction Act (44 U.S.C. chapter 35).

Agency: U.S. Census Bureau.

Title: Survey of Health Insurance and Program Participation (SHIPP).

OMB Control Number: None.

Form Number(s): The collection will be conducted using an automated instrument. There are no form numbers.

Type of Request: Emergency Review of a new collection.

Burden Hours: 1,000.

Number of Respondents: 5,000.

Average Hours per Response: 12 minutes.

Needs and Uses: The U.S. health care system is decentralized, thus there is no comprehensive database of the insured and no way to derive the number of uninsured from such a database. Surveys offer the only data source for estimating the uninsured. Measuring the uninsured in surveys, however, has proved to be a persistent challenge to the research community. The Census Bureau has been conducting research for more than a decade on measurement error in its surveys that measure health insurance, including the Current Population Survey Annual Social and Economic Supplement (commonly called the CPS ASEC), the American Community Survey (ACS) and the Survey of Income and Program Participation (SIPP). This research fed into the development of an experimental set of questions on health insurance (the Redesign), which has the potential to reduce measurement error. The next step in this line of research is a split-ballot experiment planned for the spring of 2010 called the “Survey of Health Insurance and Program Participation” (SHIPP), which will include three panels of questions on health insurance: One modeled on the CPS ASEC series, one modeled on the American Community Survey (ACS) series, and the Redesign (see attached questionnaire and additional lists of state-specific program names).

The SHIPP is conducted by telephone from the Census Bureau's telephone data collection center in Hagerstown, Md., and the field period is scheduled for March 22 through May 10, 2010. Two types of sample will be used: Random digit dial (RDD), and “seeded” sample of known Medicare enrollees from the Centers for Medicare and Medicaid Services.

With regard to the circumstances necessitating an emergency clearance, on January 21, 2010, we submitted a request to conduct this survey under the Statistical Research Division's (SRD) generic clearance, which covers basic methodological research on questionnaire design and evaluation (split-ballot field tests, respondent debriefings, interviewer evaluations, etc.). Turnaround time for generic clearance is generally 10 days, and since 1999 SRD has conducted several similar (and related) studies under this generic clearance. Results from some of these studies are documented in the list of references in Question 8 below. In early February 2010, however, we were informed by OMB that this particular study did not fall under the generic clearance but required a separate package because of the increased visibility of health insurance measurement issues which arose in the context of recent high-profile efforts to evaluate various health system reform proposals.

Given the timing of this determination that a separate OMB clearance package is needed, the choice is either to delay the survey by about six months or to pursue an emergency clearance. Delaying the survey has several negative consequences. In the short run, significant resources have been dedicated to running this survey in the spring of 2010, and shifting the timing would not only squander those resources, but it is unlikely that sufficient staff would be available later. Related to this, beginning in May 2010 and running through September 2010, several decennial followup operations will be conducted out of the Hagerstown telephone facility, and the SHIPP study would directly conflict with resources dedicated to those efforts. But perhaps the most compelling reason the survey cannot be delayed is due to the nature of the research questions. The Redesign is aimed at reducing measurement associated with the calendar year reference period, in tandem with the approximate three-month lag time between the end of the reference period and the interview date. Thus, as noted in Question 6 below, to evaluate the effectiveness of the questions on retrospective coverage in the Redesign, it is essential that the field study be carried out in parallel with the timing of producing CPS ASEC data collection as closely as possible. A 6-month delay would seriously threaten the applicability of the results.

The primary purpose of the field study is to evaluate the Redesign and assess any improvements over the CPS ASEC design. A secondary purpose is to compare estimates from the CPS and ACS test panels. Evaluations will be carried out by HHES and SRD staff and will involve a range of different methods, including an analysis of: (1) The point estimates of the uninsured, and also those insured by various types of coverage (such as employer-sponsored plans, Medicare and Medicaid); (2) the accuracy of the survey data (as compared to administrative records on health coverage); (3) interview administration time; (4) interviewer feedback; (5) analysis of interviewer-respondent interaction (through behavior coding); and (6) respondent debriefings (scripted in questionnaire). The evaluation will be used to help interpret estimates from CPS ASEC and ACS production data, and to determine whether particular survey design features of the CPS ASEC would benefit by modifications based on the Redesign. One particular survey design feature—the calendar year reference period—has been demonstrated to result in under-reported coverage. The Redesign, therefore, collects data on current coverage (a much less problematic reference period) and then uses this information as an anchor in order to ask about retrospective coverage during the past calendar year. If results show that this alternative method does in fact reduce under-reporting of past coverage, the CPS ASEC could adapt this type of question sequence in order to (1) produce statistics on current coverage and (2) produce past calendar year statistics that are more accurate.

Affected Public: Individuals or households.

Frequency: One-time.

Respondent's Obligation: Voluntary.

Legal Authority: Title 13 U.S.C. Section 182; Title 42 U.S.C. Section 285e-1.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent in by March 12, 2010 to Brian Harris-Kojetin, OMB Desk Officer either by fax (202-395-7245) or e-mail (bharrisk@omb.eop.gov).

Dated: February 19, 2010.
Glenna Mickelson,
Management Analyst, Office of the Chief Information Officer.

[FR Doc. 2010-3761 Filed 2-24-10; 8:45 am]

BILLING CODE 3510-07-P